DEPARTMENT OF THE INTERIOR

Bureau of Indian Affairs

[156A2100DD/AAKC001030/A0A501010.999900 253G]

Indian Gaming

AGENCY: Bureau of Indian Affairs, Interior.

ACTION: Notice of Approved Tribal-State Class III Gaming Compact.

SUMMARY: This notice publishes the approval of the Amendment to the compacts between the Confederated Tribes of the Chehalis Reservation, Confederated Tribes of the Colville Reservation, Cowlitz Indian Tribe, Hoh Indian Tribe, Jamestown S'Klallam Tribe, Kalispel Indian Community of the Kalispel Reservation, Lower Elwha Tribal Community, Lummi Tribe of the Lummi Reservation, Makah Indian Tribe of the Makah Reservation, Nisqually Indian Tribe, Port Gamble S'Klallam Tribe, Quileute Tribe of the Quileute Reservation, Quinault Indian Nation, Samish Indian Nation, Sauk Suiattle Indian Tribe, Shoalwater Bay Indian Tribe of the Shoalwater Bay Indian Reservation, Skokomish Indian Tribe, Snoqualmie Indian Tribe, Spokane Tribe of the Spokane Reservation, Squaxin Island Tribe of the Squaxin Island Reservation, Stillaguamish Tribe of Indians of Washington, Suquamish Indian Tribe of the Fort Madison Reservation, Swinomish Indian Tribal Community, Tulalip Tribes of Washington, Upper Skagit Indian Tribe, Yakama Nation, and the State of Washington governing Class III gaming (Compact).

DATES: Effective Date: June 4, 2015.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA) Public Law 100-497, 25 U.S.C. 2701 et seq., the Secretary of the Interior shall publish in the Federal Register notice of approved Tribal-State compacts for the purpose of engaging in Class III gaming activities on Indian lands. As required by 25 CFR 293.4, all compacts are subject to review and approval by the Secretary. The Compact requires that ATM machines shall not accept Electronic Benefits Cards, increases the allocation of Players Terminals, sets the regulatory fee schedule, authorizes changes for tribal contributions, and incorporates Appendix X2 Addendum into the Compact.

Dated: May 29, 2015.
Kevin K. Washburn,
Assistant Secretary—Indian Affairs.

[FR Doc. 2015-13712 Filed 6-3-15; 8:45 am]

BILLING CODE 4337-15-P